ENVIRONMENTAL PROTECTION AGENCY

40 CFR Parts 52 and 81

[EPA-R05-OAR-2016-0593; FRL-9975-93—Region 5]

Air Plan Approval; Illinois; Redesignation of the Chicago and Granite City Areas to Attainment of the 2008 Lead Standard

AGENCY: Environmental Protection Agency (EPA).

ACTION: Final rule.

SUMMARY: The Environmental Protection Agency (EPA) is approving the Illinois Environmental Protection Agency's (Illinois EPA's) request to redesignate the Chicago and Granite City nonattainment areas (hereafter also referred to as the “areas”) to attainment for the 2008 national ambient air quality standards (NAAQS or standards) for lead, also identified as Pb. EPA is also approving, as revisions to the Illinois state implementation plan (SIP): The state's plan for maintaining the 2008 lead NAAQS in the areas for a period of ten years following these redesignations; the emissions inventories for the areas; and rules applying emission limits and other control requirements to lead sources in the areas. EPA is taking these actions in accordance with applicable regulations and guidance that address implementation of the 2008 lead NAAQS. EPA proposed this action on October 18, 2017, and received two public comments in response.

DATES: This final rule is effective on March 28, 2018.

ADDRESSES: EPA has established a docket for this action under Docket ID No. EPA-R05-OAR-2016-0593. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays. We recommend that you telephone Eric Svingen, Environmental Engineer, at (312) 353-4489 before visiting the Region 5 office.

FOR FURTHER INFORMATION CONTACT: Eric Svingen, Environmental Engineer, Attainment Planning and Maintenance Section, Air Programs Branch (AR-18J), Environmental Protection Agency, Region 5, 77 West Jackson Boulevard, Chicago, Illinois 60604, (312) 353-4489, svingen.eric@epa.gov.

SUPPLEMENTARY INFORMATION: Throughout this document whenever “we,” “us,” or “our” is used, we mean EPA. This supplementary information section is arranged as follows: Is used, we mean EPA. This supplementary information section is arranged as follows:

I. What is the background for this final rule?

II. What are EPA's responses to comments?

III. What actions is EPA taking?

IV. Incorporation by Reference

V. Statutory and Executive Order Reviews

I. What is the background for this final rule?

On November 12, 2008 (73 FR 66964), EPA established the 2008 primary and secondary lead NAAQS at 0.15 micrograms per cubic meter (μg/m³) based on a maximum arithmetic 3-month mean concentration for a 3-year period. See 40 CFR 50.16.

On November 22, 2010 (75 FR 71033), and November 22, 2011 (76 FR 72097), EPA designated the Granite City and Chicago areas, respectively, as nonattainment for the 2008 lead NAAQS. See 40 CFR 81.314.

On January 9, 2014, Illinois EPA submitted to EPA attainment plans for the 2008 lead NAAQS. This submission included a request to incorporate into the Illinois SIP new rules for lead emission sources at Title 35 Illinois Administrative Code (Ill. Adm. Code) Part 226. On June 17, 2014, Illinois EPA supplemented this submission with additional information regarding the state rulemaking process.

On August 24, 2015 (80 FR 51127), EPA published a clean data determination for the Chicago area, based upon air monitoring data for the 2012-2014 design period showing that the area achieved attainment of the 2008 Pb NAAQS.

On September 22, 2016, Illinois EPA requested that the Granite City and Chicago lead nonattainment areas be redesignated to attainment for the 2008 lead NAAQS and submitted maintenance plans for the areas as a proposed revision to the Illinois SIP. In this September 22, 2016, submission, Illinois EPA withdrew most parts of the previous two submissions, but did not withdraw the request that EPA approve, as a revision to the Illinois SIP, the requirements at 35 Ill. Adm. Code Part 226 to limit lead emissions in the areas. Illinois similarly did not withdraw certain attachments and support documents, such as emissions inventories and modeling data, that are relevant to the request. On February 16, 2017, Illinois EPA clarified certain details regarding the maintenance plan components of its September 22, 2016 submission.

On October 18, 2017 (82 FR 48448), EPA published a direct final rule approving Illinois EPA's request to redesignate the Chicago and Granite City nonattainment areas to attainment for the 2008 lead NAAQS, the state's maintenance plans for the areas, emissions inventories for the areas, and rules applying emission limits and other control requirements to lead sources in the areas. EPA also concurrently issued a proposal on October 18, 2017 (82 FR 48475). The direct final rule contains a detailed analysis of Illinois's submittal and the applicable requirements for purpose of redesignation. In the direct final rule, EPA stated that if adverse comments were received by November 17, 2017, the rule would be withdrawn and would not take effect. EPA received an adverse comment prior to the close of the comment period; therefore, on December 8, 2017 (82 FR 57853), EPA published a withdrawal of the direct final rule. EPA is addressing that adverse comment, as well as an additional comment, in this final action.

II. What are EPA's responses to comments?

During the comment period, EPA received two comments, one of which is adverse. A summary of both comments and EPA's responses are provided below.

Comment 1: A commenter writes that EPA “should request to redesign [sic] Chicago and Granite City nonattainment areas because it will be good for the environment.” The commenter further writes that “in order to redesign the nonattainment areas in Chicago, workers should look for a solution for proper sanitation and developing a better ecosystem. Workers should focus on the factors that caused the area to become nonattainment. They should also measure the environmental conditions such as the temperature of the area.” The commenter notes that “high amounts of pollution can put people's health at risk” and “if there are high amounts of pollution in the area then the area is considered to be nonattainment.”

Response 1: This comment does not provide information that would alter EPA's evaluation of the State's request to redesignate the Chicago and Granite City areas, which is based on the applicable statutory criteria. 82 FR 48448, 48450-56. EPA agrees that high amounts of pollution can be deleterious to public health, and notes that Illinois' control measures at 35 Ill. Adm. Code Part 226 address the main factors that caused the areas to be designated as nonattainment for the 2008 lead NAAQS.

Comment 2: A commenter writes that EPA “shouldn't approve this redesignation request due to the unachievable limits modeled for the Mayco and H. Kramer sources” within the Granite City and Chicago areas, respectively. Specifically, the commenter identifies the following as sources with “limits modeled that are impossible to acheive [sic] in practice”: Four sources at H. Kramer with limits of 0.0001 grains per dry standard cubic foot (gr/dscf); a wet scrubber, existing baghouse and one power vent at H. Kramer with limits of 0.00001 gr/dscf; and unspecified point sources at Mayco with limits of 0.01 and 0.001 grs/dscf. Regarding the limit of 0.00001 gr/dscf, the commenter states that “filter cartridge manufacturers state they cannot guarantee capture efficiency or even control efficiency at such a minute standard.” The commenter further writes that “EPA must be able to show that these modeled limits are actually achievable in practice otherwise the redesignation request is faulted to an extraordinary degree.”

Response 2: EPA disagrees with the commenter's statements, and notes that the commenter has supplied no evidence supporting claims that the control measures applying to the H. Kramer and Mayco facilities are unachievable. EPA is not required by section 107(d)(3)(E) of the CAA to demonstrate that permanent and federally enforceable measures are achievable in practice in order to rely on those measures for purposes of redesignation. In any case, as discussed below, Illinois EPA has provided emissions test information that show the limits are achievable and are being met.

The lead limits applicable to emission units at the H. Kramer and Mayco sources are codified at 35 Ill. Adm. Code Part 226. EPA notes that the commenter has mischaracterized the limits that apply to Mayco. As shown in the modeling analysis submitted by Illinois on January 9, 2014, there is no emission unit at Mayco subject to limits of 0.01 gr/dscf. In fact, the modeling in Illinois' submission lists four emission units at Mayco: One baghouse limited to 0.001 gr/dscf, as well as three baghouses limited to 0.0001 gr/dscf. Similarly, the modeling lists seven emission units at H. Kramer: Two powered vents and two new baghouses limited to 0.0001 gr/dscf, as well as one powered vent, one older baghouse, and one wet scrubber limited to 0.00001 gr/dscf.

On December 7, 2017, and on March 14, 2018, in support of this final rulemaking, Illinois EPA provided EPA with information relevant to this comment. That information is provided in the docket for this rulemaking.

Illinois EPA's information includes reports of emissions tests from the H. Kramer and Mayco facilities, and all available results indicate compliance with the applicable limits.

Emissions tests conducted at H. Kramer in March 2016 indicate that the average concentration of lead emissions from H. Kramer's older baghouse and wet scrubber are 0.000000602 gr/dscf and 0.000000738 gr/dscf, respectively, within the applicable limit of 0.00001 gr/dscf. Tests conducted at H. Kramer in April 2012 and June 2012 indicate that the average concentration of lead emissions from powered vents labeled “R1COOL” AND “R2COOL” are 0.0000531 gr/dscf and 0.0000491 gr/dscf, respectively, within the applicable limit of 0.0001 gr/dscf, and the average concentration of lead emissions from powered vent labeled “INGOT” is 0.0000055 gr/dscf, within the applicable limit of 0.00001 gr/dscf. Tests conducted at H. Kramer in September 2013 indicate that the average concentration of lead emissions from new baghouses A and B are 0.000003 gr/dscf and 0.000001 gr/dscf, respectively, within the applicable limit of 0.0001 gr/dscf.

Emissions tests conducted at Mayco in April 2016 and June 2016 also indicate that the average concentration of lead emissions from all units are within applicable limits. Tests of Baghouse 1, also identified as “cast-refine baghouse,” showed emissions of 0.000081 gr/dscf, within the applicable limit of 0.0001 gr/dscf. Tests of Baghouse 2, also identified as “casting fugitives baghouse,” showed emissions of 0.000014 gr/dscf, within the applicable limit of 0.001 gr/dscf. Tests of Baghouse 3, also identified as “lead wool cartridge filter,” showed emissions of 0.000023 gr/dscf, within the applicable limit of 0.0001 gr/dscf. Tests of Baghouse 6, also identified as “shot department baghouse discharge,” showed emissions of 0.000001 gr/dscf, within the applicable limit of 0.0001 gr/dscf.

All tests were conducted according to EPA test methods provided at 40 CFR part 60, appendix A, and all measured values are within the limits provided at 35 Ill. Adm. Code Part 226. Therefore, EPA does not agree with commenter that these limits are unachievable in practice.

Furthermore, the commenter's broad allegation regarding efficiency guarantees from cartridge manufacturers does not provide adequate support for the position that the limits are not achievable. The commenter did not include any details about what the manufacturer purportedly stated as to the control or capture efficiencies. In the information provided in December 2017, Illinois EPA noted that manufacturer statements about control and capture efficiencies usually apply to particulate matter emissions and are not specific to lead emissions. At H. Kramer and Mayco, lead is a small percentage of total particulate emitted from each point source, and lead emissions cannot be determined without additional laboratory analysis. Therefore, it is likely that any claim by a manufacturer regarding “capture efficiency” or “control efficiency” would not have been provided specifically with respect to lead in terms of gr/dscf. As such, those statements provide no relevant support for the contention that Illinois' lead limits are unachievable.

Additionally, monitoring data show that ambient levels of lead pollution in these areas have fallen to lower levels within the standard of 0.15 μg/m³ since the emission limits and control measures in 35 Ill. Adm. Code Part 226 became effective. This supports EPA's redesignation of the areas to attainment because it shows the areas continue to attain the standard, and these improvements in air quality are due to permanent and enforceable measures that result from implementation of the SIP, which are two of the statutory criteria that EPA must demonstrate to redesignate an area under CAA section 107(d)(3)(E). 82 FR 48454.

III. What actions is EPA taking?

EPA is approving Illinois' request to redesignate the Chicago and Granite City areas from nonattainment to attainment for the 2008 lead NAAQS under section 107(d)(3)(E) of the Clean Air Act (CAA). Specifically, section 107(d)(3)(E) of the CAA allows for redesignation provided that: (1) The Administrator determines that the area has attained the applicable NAAQS based on current air quality data; (2) the Administrator has fully approved an applicable SIP for the area under section 110(k) of the CAA; (3) the Administrator determines that the improvement in air quality is due to permanent and enforceable emission reductions resulting from implementation of the applicable SIP, Federal air pollution control regulations, or other permanent and enforceable emission reductions; (4) the Administrator has fully approved a maintenance plan for the area meeting the requirements of section 175A of the CAA; and (5) the state containing the area has met all requirements applicable to the area for purposes of redesignation under section 110 and the requirements for nonattainment areas under part D of the CAA. Based upon the analysis provided in our direct final rule published on October 18, 2017 (82 FR 48448), EPA finds that Illinois has met these criteria.

Approval of this redesignation request changes the official designation of the Chicago, Illinois and Granite City, Illinois areas for the 2008 lead NAAQS, found at 40 CFR part 81, from nonattainment to attainment. This action also approves, as revisions to the Illinois SIP, the rules at 35 Ill. Adm. Code Part 226, maintenance plans for the 2008 lead standard in the Chicago and Granite City areas, and Illinois' 2012 emissions inventories for the Chicago and Granite City areas pursuant to section 172(c)(3) of the CAA.

Section 172(c)(3) of the CAA requires areas to submit a comprehensive emissions inventory including all lead sources in the nonattainment area. EPA is approving the Illinois 2012 emissions inventories outlined in Table 5 of the October 17, 2017, direct final rule for the Chicago and Granite City areas as fulfilling this requirement.

In its September 22, 2016, submission, Illinois EPA requested that EPA approve 35 Ill. Adm. Code Part 226 as a revision to the Illinois SIP as control measures to maintain attainment in the Chicago and Granite City areas. These rules control emissions from lead sources, specifically at the H. Kramer and Mayco facilities, and inclusion of these rules into the SIP makes these measures permanent and enforceable. In today's action, EPA is approving Illinois' request to modify the SIP to include these rules.

In accordance with 5 U.S.C. 553(d), EPA finds there is good cause for these actions to become effective immediately upon publication. This is because a delayed effective date is unnecessary due to the nature of a redesignation to attainment, which relieves the area from certain CAA requirements that would otherwise apply to it. The immediate effective date for this action is authorized under both 5 U.S.C. 553(d)(1), which provides that rulemaking actions may become effective less than 30 days after publication if the rule “grants or recognizes an exemption or relieves a restriction,” and section 553(d)(3), which allows an effective date less than 30 days after publication “as otherwise provided by the agency for good cause found and published with the rule.” The purpose of the 30-day waiting period prescribed in section 553(d) is to give affected parties a reasonable time to adjust their behavior and prepare before the final rule takes effect. Today's rule, however, does not create any new regulatory requirements such that affected parties would need time to prepare before the rule takes effect. Rather, today's rule relieves the state of planning requirements for these lead nonattainment area. For these reasons, EPA finds good cause under 5 U.S.C. 553(d)(3) for these actions to become effective on the date of publication of these actions.

IV. Incorporation by Reference

In this rule, EPA is finalizing regulatory text that includes incorporation by reference. In accordance with requirements of 1 CFR 51.5, EPA is finalizing the incorporation by reference of the Illinois Regulations described in the amendments to 40 CFR part 52 set forth below. EPA has made, and will continue to make, these documents generally available through www.regulations.gov, and at the EPA Region 5 Office (please contact the person identified in the FOR FURTHER INFORMATION CONTACT section of this preamble for more information). Therefore, these materials have been approved by EPA for inclusion in the State implementation plan, have been incorporated by reference by EPA into that plan, are fully federally enforceable under sections 110 and 113 of the CAA as of the effective date of the final rulemaking of EPA's approval, and will be incorporated by reference by the Director of the Federal Register in the next update to the SIP compilation.¹

¹ 62 FR 27968 (May 22, 1997).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by May 29, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects

40 CFR Part 52

Environmental protection, Air pollution control, Incorporation by reference, Intergovernmental relations, Lead, Reporting and recordkeeping requirements.

40 CFR Part 81

Environmental protection, Air pollution control, National parks, Wilderness areas.

Dated: March 15, 2018.
Cathy Stepp,
Regional Administrator, Region 5.

40 CFR parts 52 and 81 are amended as follows:

PART 52—APPROVAL AND PROMULGATION OF IMPLEMENTATION PLANS

1. The authority citation for part 52 continues to read as follows:

Authority: 42 U.S.C. 7401 et seq.

2. In § 52.720 the tables in paragraph (c) and (e) are amended:

a. In paragraph (c) under the subheading “Subchapter c: Emission Standards and Limitations for Stationary Sources” by adding the subheading “Part 226: Standards And Limitations For Certain Sources Of Lead” and entries for “226.100” through “226.185” in numerical order;

b. In paragraph (e) under the subheading “Attainment and Maintenance Plans” by adding an entry for “Lead (2008) redesignation and maintenance plan” in alphanumerical order; and

c. In paragraph (e) under the subheading “Emission Inventories” by adding the entry “Emission inventory—2012 (2008 Lead)” in alphanumerical order.

The additions read as follows:

§ 52.720 Identification of plan.

* * * * *

(c) * * *

EPA-Approved Illinois Regulations and Statutes
Illinois citation | Title/subject | State effective date | EPA approval date | Comments
* * * * * * *
Subchapter c: Emission Standards and Limitations for Stationary Sources
* * * * * * *
Part 226: Standards and Limitations for Certain Sources of Lead
226.100 | Severability | 4/21/2014 | 3/28/18, [insert Federal Register citation]
226.105 | Scope and Organization | 4/21/2014 | 3/28/18, [insert Federal Register citation]
226.110 | Abbreviations and Acronyms | 4/21/2014 | 3/28/18, [insert Federal Register citation]
226.115 | Definitions | 4/21/2014 | 3/28/18, [insert Federal Register citation]
226.120 | Incorporations by Reference | 4/21/2014 | 3/28/18, [insert Federal Register citation]
226.125 | Applicability | 4/21/2014 | 3/28/18, [insert Federal Register citation]
226.130 | Compliance Date | 4/21/2014 | 3/28/18, [insert Federal Register citation]
226.140 | Lead Emission Standards | 4/21/2014 | 3/28/18, [insert Federal Register citation]
226.150 | Operational Monitoring for Control Device | 4/21/2014 | 3/28/18, [insert Federal Register citation]
226.155 | Total Enclosure | 4/21/2014 | 3/28/18, [insert Federal Register citation]
226.160 | Operational Measurement for Total Enclosure | 4/21/2014 | 3/28/18, [insert Federal Register citation]
226.165 | Inspection | 4/21/2014 | 3/28/18, [insert Federal Register citation]
226.170 | Lead Fugitive Dust Operating Program | 4/21/2014 | 3/28/18, [insert Federal Register citation]
226.175 | Emissions Testing | 4/21/2014 | 3/28/18, [insert Federal Register citation]
226.185 | Recordkeeping and Reporting | 4/21/2014 | 3/28/18, [insert Federal Register citation]
* * * * * * *

* * * * *

(e) * * *

EPA-Approved Illinois Nonregulatory and Quasi-Regulatory Provisions
Name of SIP provision | Applicable geographic or nonattainment area | State submittal date | EPA approval date | Comments
* * * * * * *
Attainment and Maintenance Plans
* * * * * * *
Lead (2008) Redesignation and maintenance plan | Chicago and Granite City areas | 9/22/2016 | 3/28/18, [insert Federal Register citation]
* * * * * * *
Emission Inventories
* * * * * * *
Emission inventory-2012 (2008 Lead) | Chicago and Granite City areas | 9/22/2016 | 3/28/18, [insert Federal Register citation]
* * * * * * *

PART 81—DESIGNATION OF AREAS FOR AIR QUALITY PLANNING PURPOSES

3. The authority citation for part 81 continues to read as follows:

Authority: 42 U.S.C. 7401, et seq.

4. Section 81.314 is amended by revising the table entitled “Illinois—2008 Lead NAAQS” to read as follows:

§ 81.314 Illinois.

* * * * *

Illinois—2008 Lead NAAQS
Designated area | Designation for the 2008 NAAQS ᵃ: Date ¹ | Designation for the 2008 NAAQS ᵃ: Type
Chicago, IL:
Cook County (part) | 3/28/18 | Attainment.
Area bounded by Damen Ave. on the west, Roosevelt Rd. on the north, the Dan Ryan Expressway on the east, and the Stevenson Expressway on the south
Granite City, IL:
Madison County (part) | 3/28/18 | Attainment.
Area is bounded by Granite City Township and Venice Township
Rest of State |  | Unclassifiable/Attainment.
ᵃ Includes Indian Country located in each county or area, except as otherwise specified.
¹ December 31, 2011 unless otherwise noted.

[FR Doc. 2018-06128 Filed 3-27-18; 8:45 am]

BILLING CODE 6560-50-P